DEPARTMENT OF COMMERCE

National Oceanic and Atmospheric Administration

RIN 0648-XA934

Draft Environmental Impact Statement for Effects of Oil and Gas Activities in the Arctic Ocean

AGENCY: National Marine Fisheries Service (NMFS), National Oceanic and Atmospheric Administration (NOAA), Commerce.

ACTION: Notice of extension of comment period; notice of public meetings.

SUMMARY: On December 30, 2011, notice was published in the Federal Register that NMFS had released for public comment the “Draft Environmental Impact Statement (DEIS) for the Effects of Oil and Gas Activities in the Arctic Ocean.” Based on several written requests received by NMFS, the public comment period for this DEIS has been extended by 15 days. Additionally, on December 30, 2011, NMFS announced that public meetings would be held in January and February 2012. This notice provides additional updates on the DEIS public meeting schedule.

DATES: All comments and written statements must be postmarked no later than Tuesday, February 28, 2012.

ADDRESSES: Written comments and statements on the DEIS must be postmarked by February 28, 2012. Comments on the DEIS may be submitted by:

• Email: arcticeis.comments@noaa.gov

• Mail: Office of Protected Resources, 1315 East-West Highway, Silver Spring, MD 20190

• Fax: (301) 713-0376

• Public Meetings: Oral and written comments will be accepted during the upcoming public meetings. See SUPPLEMENTARY INFORMATION, Public Meetings (below) for more information.

Comments sent via email, including all attachments, must not exceed a 25-megabyte file size. Information on this project can also be found on the Protected Resources Web page at: http://www.nmfs.noaa.gov/pr/permits/eis/arctic.htm.

FOR FURTHER INFORMATION CONTACT: Candace Nachman, Jolie Harrison, or Michael Payne, Office of Protected Resources, NMFS, at (301) 427-8401 or via email at arcticeis.comments@noaa.gov.

SUPPLEMENTARY INFORMATION: Additional information on the content of the DEIS can be found in the Notice of Availability (76 FR 82275, December 30, 2011).

Public Meetings

Comments will be accepted at public meetings and during the public comment period, and must be postmarked by February 28, 2012 (see FOR FURTHER INFORMATION CONTACT). We request that you include in your comments: (1) Your name, address, and affiliation (if any); and (2) background documents to support your comments as appropriate.

The dates, times, and locations of the DEIS public meetings (incorrectly described as scoping meetings in the Notice of Availability Federal Register document (76 FR 82275, December 30, 2011)) will be announced in local media. Public meetings will be held in the communities of Barrow, Kaktovik, Kivalina, Kotzebue, Nuiqsut, Point Hope, Point Lay, and Wainwright between January 30 and February 10, 2012. The exact dates, times, and locations will be announced in advance through local media. A DEIS public meeting will also be held in Anchorage at the Loussac Public Library in the Wilda Marston Theater located at 3600 Denali Street, Anchorage, AK on Monday, February 13, 2012, from 12-2 p.m. Comments will be accepted at all public meetings, as well as during the public comment period and can be submitted via the methods described earlier in this document (see ADDRESSES).

Special Accommodations

These meetings are accessible to people with disabilities. Requests for sign language interpretation or auxiliary aids should be directed to Erin Green by telephone at (907) 562-3366 or by email at erin.green@urs.com at least 7 days before the scheduled meeting date.

Dated: January 11, 2012.
James H. Lecky,
Director, Office of Protected Resources, National Marine Fisheries Service.

[FR Doc. 2012-823 Filed 1-17-12; 8:45 am]

BILLING CODE 3510-22-P